DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-site Evaluation of the Garrett Lee Smith Memorial Suicide Prevention and Early Intervention Programs (OMB No. 0930-0286)—Revision

The Substance Abuse and Mental Health Services Administration's (SAMHSA) Center for Mental Health Services (CMHS) will continue to conduct the cross-site evaluation of the Garrett Lee Smith Memorial Youth Suicide Prevention and Early Intervention State/Tribal Programs and the Garrett Lee Smith Memorial Youth Suicide Prevention Campus Programs. The data collected through the cross-site evaluation addresses four stages of program activity: (1) The context stage includes a review of program plans, such as grantee's target population, target region, service delivery mechanisms, service delivery setting, types of program activities to be funded and evaluation activities; (2) the product stage describes the prevention strategies that are developed and utilized by grantees; (3) the process stage assesses progress on key activities and milestones related to implementation of program plans; and (4) the impact ¹ stage assesses the impact of the program on early identification, referral for services, and service follow-up of youth at risk.

¹ The evaluation as designed includes four stages (context, content, process, and impact) each of which is hinged to the fundable activities of the grantees, the research questions outlined in the evaluation statement of work, and the state of the knowledge base in the field of suicide prevention. As such, while the evaluation design does not currently include rigorous impact assessment, it does include the comparative assessment of proximal outcomes as a part of the impact stage. Hereafter, the impact stage is used as an umbrella term to cover evaluation protocols designed and implemented to understand the outcomes of the program.

To date, 147 State/Tribal cooperative agreement awardees and 153 Campus grantees have participated in the cross-site evaluation since FY 2005. Currently, 61 State/Tribal cooperative agreement awardees and 60 Campus grantees are participating in the cross-site evaluation. Data will continue to be collected from suicide prevention program staff (e.g., project directors, evaluators), key program stakeholders (e.g., state/local officials, child-serving agency directors, gatekeepers, mental health providers, and campus administrators), training participants, college students, and campus faculty/staff through FY2016.

Since the State/Tribal grantees differ from the Campus grantees in programmatic approaches, specific data collection activities also vary by type of program. The following describes the specific data collection activities and data collection instruments to be used across State/Tribal and Campus grantees for the cross-site evaluation. While most of the data collection instruments described below are revised versions of instruments that have previously received Office of Management and Budget approval (OMB No. 0930-0286 with Expiration Date: August 2013) and are currently in use, new instruments include:

• The Training Utilization and Preservation—Survey (TUP-S): 6-Month Follow-up, Adolescent, and Campus Versions

• The Life skills Activities Follow-up Interview (LAI)

• The Coalition Survey

• The Coalition Profile

• The Short Message Service Survey (SMSS)

• The Student Awareness Intercept Survey (SAIS)

The addition of these new data collection activities does not increase the burden associated with the cross-site evaluation because several lengthy instruments, as well as campus case studies, have been removed from the data collection protocol. A summary table of the number of respondents and respondent burden has also been included.

Previously approved instruments that have been removed include:

• The Training Exit Survey (TES) Individual Form for States/Tribes

• The Suicide Prevention, Exposure, Awareness and Knowledge Survey for Students (SPEAKS-S)_

• The Campus Infrastructure Interviews (CIFI)

• Three instruments collected by a subset of Campus grantees

• The Training Utilization and Preservation Interview (TUP-I)

Data Collection Activities for State/Tribal Grantees

For State/Tribal grantees, the Prevention Strategies Inventory State/Tribal (PSI-ST) Baseline and Follow-up, Referral Network Survey (RNS), and the Training Utilization and Preservation—Survey (TUP-S-ST): State/Tribal Version described below are revised versions of instruments that previously received OMB approval (OMB No. 0930-0286 with Expiration Date: August 2013) and are currently in use. The Training Activity Summary Page State/Tribal (TASP-ST), Early Identification, Referral and Follow-up Screening Form (EIRF-S) and the Early Identification, Referral and Follow-up Analysis (EIRF) are data collection activities that utilize existing data sources. The Training Utilization and Preservation Survey (TUP-S): 6-Month Follow-up and Adolescent Versions, the Coalition Profile, and the Coalition Survey are proposed as new data collection instruments.

Prevention Strategies Inventory-State/Tribal (PSI-ST)—Revised: The Prevention Strategies Inventory will collect information on the suicide prevention strategies that grantees have developed and utilized. Prevention strategies include outreach and awareness, gatekeeper training, assessment and referral training for mental health professionals and hotline staff, life skills development programs, screening programs, hotlines and helplines, means restriction, policies and protocols for intervention and postvention, coalitions and partnerships, and direct services and traditional healing practices. Baseline data will be collected from the State/Tribal grantees at the beginning of their grant cycle. Thereafter, they will complete the PSI-ST on a quarterly basis over the duration of their grant period. Baseline data will be collected on information on the types of prevention strategies grantees have developed and utilized, and the follow-up data collection asks the grantees to update the information they have provided on a quarterly basis over the period of the grant. On average, 61 State/Tribal grantees will fill out the PSI-ST per year. One respondent from each site will be responsible for completing the survey. The survey will take approximately 45 minutes; however, the number of products, services and activities implemented under each strategy will determine the number of items each respondent will complete. The PSI has been revised to include response options that better capture subpopulations targeted for prevention strategies. Response options now include the following: American Indian/Alaska Native; Survivors of Suicide; Individuals who engage in nonsuicidal self-injury; Suicide attempters; Individuals with mental and/or substance abuse disorders; Lesbian, gay, bisexual, and transgender populations; Veterans, active military, or military families; Hispanic or Latino population. Additional guidance has also been provided for categorizing prevention strategies that fit in multiple categories. These changes enhance the utility and accuracy of the data collected. The PSI-ST primarily has multiple choice questions with several open-ended questions. Respondents for the Prevention Strategies Inventory will be project evaluators and/or program staff. Each of the 61 State/Tribal grantees will be required to complete the inventory.

Training Activity Summary Page State/Tribal Version (TASP -ST)—Revised: State and Tribal grantees are required to report aggregate training participant information for all training conducted as part of their suicide prevention programs. These data are aggregated from existing data sources, some of which are attendance sheets, management information systems, etc. Grantees are responsible for aggregating these data and submitting to the cross-site evaluation team using the TASP-ST on a quarterly basis. The TASP has been revised to collect information about the settings of trainings and the training goal, as well as the follow-up plans of grantees. It is estimated that abstracting this information will take 20 minutes.

Training Utilization and Preservation Survey (TUP-S): 3-Month Follow-up Version—(Revision) and 6-Month Follow-up Version-(New). The Training Utilization and Preservation Survey (TUP-S) is a quantitative, computer-assisted telephone interview. The previously approved 3-Month Follow-up Version will be administered to a random sample of trainees 3 months following the training. A new version of the survey, the 6-Month Follow-up Version, will be administered to participants 6 months following the training. Both versions will assess trainee knowledge retention and gatekeeper behavior, particularly behavior related to identifying youth at risk. The TUP-S will ask trainees to provide demographic information about individuals they have identified as being at risk, information about the subsequent referrals or supports provided by the trainee, and any available information about services accessed by the at-risk individual.

The target population of TUP-S instruments is participants in GLS sponsored trainings. The different versions of the instrument target distinct strata within that population. The State/Tribal 3-Month Follow-up TUP-S and the 6-Month Follow-up TUP-S will target adults (18 and older) who participated in State/Tribal sponsored trainings (about 900 per grantee in FY 2012). All adult participants of GLS sponsored trainings will be administered a consent-to-contact form by the training facilitator or grantee staff during a training event. Respondents to the State/Tribal TUP-S will be asked to consent to be contacted for a second time (in 3 months).

The cross-site evaluation team will select a probabilistic sample of participants who consent to be contacted on an ongoing basis, as trainings are implemented and consents received, using systematic sampling. The sample fraction will be determined and updated yearly based on the projected number of consents so as to ensure the target sample sizes per year. Changes in the sample fraction will alter inclusion probabilities and must be taken into account in the analysis across years through the use of sampling weights.

Target sample sizes were determined so as to afford small standard errors for the estimates of the quantities of interest in a given year considering available resources. In addition, the sample size for each version is roughly proportional to the size of the stratum they represent in FY 2012. Key survey estimates will take the form of the percentage or proportions, such as the proportion of trainees who identified a youth at risk for suicide during the 3 months after the training. In the case of the TUP-S 6-Month Follow-up, the main interest is the change between administrations in these proportions of interest. Results are presented for the maximum standard errors, i.e., for a proportion close to 50%—in which the variance is the largest—and for no correlation over time in the case of the TUP-S 6-month follow-up.

Instrument Version | Target sample size | Maximum standard error (percent)
ST TUP-S | 2,000 | 1.1
ST TUP-S 6-Month Follow-up (pilot) * | 200 | 5.0
ST TUP-S 6-Month Follow-up * | 600 | 2.9
* Note the precision here is for a difference in proportions, instead of a single proportion, assuming no correlation over time.

An average of 2,000 participants per year will be sampled for completion of the 3-Month Follow-up Version. The 6-Month Follow-up Version will sample 200 participants the first year and will increase to 600 participants in subsequent years. The two versions of the TUP-S include 25 items each and will take approximately 10 minutes to complete.

Training Utilization and Preservation Survey (TUP-S): Adolescent Version—New. The one-year pilot of the Adolescent version of the Training Utilization and Preservation—Survey will be implemented with grantees sponsoring trainings for youth as part of their grant program. Two methods to reach adolescents to complete the TUP-S will be piloted: one using a Web survey, and another using an SMSS, or text message, survey. The Adolescent Version of the TUP-S will assess adolescent trainees' knowledge retention and gatekeeper behavior. The adolescent version of the survey increases the comprehensiveness of the evaluation, as it allows for the collection of training utilization and retention data among adolescents under the age of 18, who represent more than a fifth of the trainees from States and Tribes, but who heretofore have not participated in the TUP-S.

The Adolescent TUP-S will target adolescents (12 to 17) who participated in State and Tribal sponsored trainings (approximately 170 per grantee in FY 2012). Consent to contact for the Adolescent TUP-S will be obtained from parent/guardians by training facilitators and/or grantee staff in conjunction with the consent to participate in the training itself.

The cross-site evaluation team will select a probabilistic sample of participants who consent to be contacted on an ongoing basis, as trainings are implemented and consents received, using systematic sampling. The sample fraction will be determined and updated yearly based on the projected number of consents so as to ensure the target sample sizes per year. Changes in the sample fraction will alter inclusion probabilities and must be taken into account in the analysis across years through the use of sampling weights.

Target sample sizes were determined so as to afford small standard errors for the estimates of the quantities of interest in a given year considering available resources. In addition, the sample size for the Adolescent Version is roughly proportional to the size of the stratum it represents in FY 2012.

Key survey estimates will take the form of the percentage or proportions, such as the proportion of trainees who identified a youth at risk for suicide during the 3 months after the training.

Instrument version | Target sample size | Maximum standard error (percent)
Adolescent TUP-S (pilot) | 100 | 5.0
Adolescent TUP-S | 400 | 2.5

An average of 100 respondents will be sampled during the pilot year; they will increase to 400 participants in subsequent years. The Adolescent Version of the TUP-S will take approximately 10 minutes to complete.

Referral Network Survey (RNS)—Revised: The Referral Network Survey (RNS) will be administered to representatives of youth-serving organizations or agencies that form referral networks supporting youth identified at risk. The RNS examines how collaboration and integration are used for sharing and transferring knowledge, resources, and technology among State/Tribal Program agencies and organizational stakeholders, how these networks influence referral mechanisms and service availability, policies and protocols regarding follow-up for youths who have attempted suicide and who are at risk for suicide, and access to electronic databases. Using zip code data submitted by grantees on the Training Activity Summary Page forms, cross-site evaluation staff will determine the county or region where the grantee has the greatest impact. The grantee will then be asked to provide contact information for at least one and up to three organizations in this county or region. Cross-site evaluation staff will make a preliminary phone call to ask these primary organizations for their referral network. Using snowball sampling to determine the entire referral network for the county or region, cross-site evaluation staff will contact all organizations within the referral network to conduct the Referral Network Survey. Snowball sampling will be repeated until saturation is reached. However, in large networks, four waves with an average of three referrals per wave will be conducted, for a total of 27 respondents. For these large networks, protocol will be followed:

Wave 1—grantee identifies one respondent.

Wave 2—1 agency provides 3 respondents.

Wave 3—3 agencies each can provide 3 more respondents.

Wave 4—9 agencies can each provide 3 respondents.

If the participant agrees to participate in the survey during the initial phone call, respondents will be asked to provide a current email address. Once the referral network has been established, respondents will be sent an online survey. This online survey will be prefilled with the entire list of the network so respondents may select which organizations are in their direct referral network.

The RNS will be administered to referral networks in years 1 and 3 of the grant. On average, 1467 respondents per year will complete the RNS. Questions on the RNS are multiple-choice, Likert-scale, and open-ended. The RNS includes 57 items and will take approximately 40 minutes to complete. The RNS has undergone several changes. It has been revised to gather more detail about the type, level, and quality of collaboration between agencies, including barriers, facilitators, and outcomes of the collaboration. The mode of administration for this survey will also be changed from phone to the Web to boost response rates.

Coalition Profile—New: The Coalition Profile will be administered once during the grant period to States and Tribes that report engaging in coalition building activities on the Prevention Strategies Inventory (PSI). Grantees will be asked to identify up to ten members of their coalition to participate. The Coalition Profile is a brief survey that provides a summary of the coalition's mission and structure, and will be used in conjunction with the Coalition Survey and the Referral Network Survey. On average, 33 respondents per year will complete the Coalition Profile. The Coalition Profile includes 10 items and will take approximately 20 minutes to complete.

Coalition Survey-New: The Coalition Survey will be administered to all State/Tribal grantees that indicate participation in coalition building activities in their Prevention Strategies Inventory (PSI) once in the first year of the grant, and again during the third year of grant funding. Each grantee will be asked to provide the names and contact information of up to ten individuals identified as part of the suicide prevention coalition. Respondents will be sent a link to complete the survey online. The Coalition Survey measures an organization's involvement in grantees' suicide prevention coalition. On average, 426 respondents per year will complete the Coalition Survey. The Coalition Survey includes 29 questions and will take approximately 40 minutes to complete.

Early Identification, Referral and Follow-up Screening Form (EIRF-S)—Revised: State/Tribal grantees are also required to report screening information for all youth screened as part of their suicide prevention programs. These data are compiled from existing data sources.

Grantees are responsible for compiling these data and submitting to the cross-site evaluation team using the Early Identification, Referral and Follow-up Screening Form. Grantees are required to submit information on a quarterly basis, and it is estimated that abstracting this information will take 60 minutes. The form has been modified to collect the geographical location of screening events.

Early Identification, Referral and Follow-up Analyses (EIRF)—Revised: State/Tribal grantees are required to share existing data with the cross-site evaluation team on the youth identified at risk as a result of early identification activities, the types of services these youth are referred for, and whether these youth receive services within 3 months of the referral. Grantees are required to submit information on a quarterly basis, and it is estimated that grantees spend 5 hours each quarter extracting this information. The form has been modified to collect the geographical location of the setting in which the youth was identified, and the setting in which the youth received services in an effort to track service availability and accessibility.

Data Collection Activities for Campuses

For Campus grantees, the Prevention Strategies Inventory—Campus Baseline and Follow-up (PSI-C) and the Training Exit Survey—Campus (TES-C), are revised versions of instruments that previously received OMB approval (OMB No. 0930-0286 with Expiration Date: August 2013) and are currently in use. The Training Activity Summary Page Campus (TASP-C) and the MIS Data Collection Activity utilize existing data sources. The Life skills Activity Follow-up Interview (LAI), the Short Message Service Survey (SMSS), the Student Awareness Intercept Survey (SAIS), and the Training Utilization and Preservation—Survey (TUP-S): Campus Version are proposed as new data collection instruments.

Prevention Strategies Inventory-Campus (PSI-C)—Revised: The Prevention Strategies Inventory will collect information on the suicide prevention strategies that grantees have developed and utilized. Prevention strategies include outreach and awareness, gatekeeper training, assessment and referral training for mental health professionals and hotline staff, life skills development activities, screening programs, hotlines and helplines, means restriction, policies and protocols for intervention and postvention, and coalitions and partnerships. The Campus grantees will first collect baseline data. Thereafter, they will collect follow-up data on a quarterly basis over the duration of their grant period. Baseline data will be collected on information on the types of prevention strategies grantees have developed and utilized, and the follow-up data collection asks the grantees to update the information they have provided on a quarterly basis over the period of the grant. On average, 60 Campus grantees will complete the PSI-C each year. One respondent from each site will be responsible for completing the survey. The survey will take approximately 45 minutes. However, the number of products, services and activities implemented under each strategy will determine the number of items to complete. The PSI has been revised to include response options that better capture subpopulations targeted for prevention strategies. Response options now include the following: American Indian/Alaska Native; Survivors of Suicide; Individuals who engage in nonsuicidal self-injury; Suicide attempters; Individuals with mental and/or substance abuse disorders; Lesbian, gay, bisexual, and transgender populations; Veterans, active military, or military families; Hispanic or Latino population. Additional guidance has also been provided for categorizing prevention strategies that fit in multiple categories. These changes enhance the utility and accuracy of the data collected. The survey primarily has multiple choice questions with several open-ended questions. Respondents for the Prevention Strategies Inventory will be project evaluators and/or program staff. Each of the 60 Campus grantees will be required to complete the inventory.

Training Exit Survey Campus Version (TES-C): The TES-C will be administered to all participants in suicide prevention training activities immediately following their training experience in order to assess the content of the training, the participants' intended use of the skills and knowledge acquired, and satisfaction with the training experience. The survey will also contain modules with questions tailored to specific types of training. Respondents will include all individuals who participate in a training activity sponsored by the 60 Campus grantees. It is estimated that approximately 37,920 trainees per year will respond to the Training Exit Survey. This estimate is based on data previously collected which indicate that Campus sites train a mean of 632 participants per year. Because the respondents to the survey represent the entire trainee population in each grantee site, there is no need for calculation of precision of point estimates for survey responses. The number of respondents will be sufficient to conduct assessments of the psychometric properties of the scales developed for this study both within and across grantee sites. The questions on the TES-C are multiple-choice, Likert-scale, and open-ended. The survey includes about 33 items and will take approximately 10 minutes to complete.

Training Activity Summary Page Campus Version (TASP-C)—Revised: State and Tribal grantees are required to report aggregate training participant information for all training conducted as part of their suicide prevention programs. These data are aggregated from existing data sources, some of which are attendance sheets, management information systems, etc.

Grantees are responsible for aggregating these data and submitting to the cross-site evaluation team using the TASP-C data elements.

Grantees are responsible for aggregating these data and submitting to the cross-site evaluation team using the TASP-C on a quarterly basis. The TASP has been revised to collect information about the settings of trainings and the training goal, as well as the follow-up plans of grantees. It is estimated that abstracting this information will take 20 minutes.

Training Utilization and Preservation—Survey (TUP-S): Campus Version—New. The Training Utilization and Preservation—Survey (TUP-S): Campus Version collects information about the utilization and retention of participants' knowledge, skills and/or techniques learned through trainings conducted on campuses. It will be administered to a random sample of training participants 3 months following the training to students who participated in a GLS sponsored training (about 450 per grantee in FY 2012). All student (over the age of 18) participants of GLS sponsored trainings will be administered a consent-to-contact form by the training facilitator or grantee staff during a training event. The cross-site evaluation team will select a probabilistic sample of participants who consent to be contacted on an ongoing basis, as trainings are implemented and consents received, using systematic sampling. The sample fraction will be determined and updated yearly based on the projected number of consents so as to ensure the target sample sizes per year. Changes in the sample fraction will alter inclusion probabilities and must be taken into account in the analysis across years through the use of sampling weights.

The target sample size was determined so as to afford small standard errors for the estimates of the quantities of interest in a given year considering available resources. In addition, the sample size for the Campus version is roughly proportional to the size of the stratum they represent in FY 2012. Key survey estimates will take the form of the percentage or proportions, such as the proportion of trainees who identified a youth at risk for suicide during the 3 months after the training.

Instrument version | Target sample size | Maximum standard error (percent)
Campus TUP-S (pilot) | 100 | 5.0
Campus TUP-S | 500 | 2.2

This version of the TUP-S will be piloted for 1 year. During the first pilot year, 100 respondents will participate. On average, in subsequent years, 500 respondents will participate in the TUP-S: Campus Version. This instrument includes 25 items and will take approximately 10 minutes to complete.

Life skills Activities Follow-up Interview (LAI)—New: The Life skills Activities Follow- up Interview (LAI) will be administered to randomly selected participants of selected Campus trainings. This qualitative interview will address how students apply the skills and information learned through campus life skills and wellness activities aimed at enhancing protective factors. The cross-site evaluation team, in consultation with local program staff, will select five particular training activities per year in which to administer the LAI. Trainees will be asked to complete consent-to-contact form indicating their willingness to be contacted to participate in the LAI and return the form to local program staff. Key informants for the LAI will be randomly selected from those individuals who consent to be contacted by the cross-site evaluation team. Local program staff will forward the consent-to-contact forms to the cross-site evaluation team. Up to seven respondents from each of the five selected trainings will be randomly selected from among the potential respondents based on consent-to-contact information, for a total of up to 35 respondents per year. Interviews will be conducted within 3 months of completion of the training activity. It is estimated that seven respondents per grantee will be sufficient to ensure saturation of themes in the content analysis of results from the qualitative interviews. The LAI will take approximately 30 minutes to complete.

This instrument will be administered to up to 7 trainees from up to 5 selected campus trainings per year, for a total of up to 35 respondents per year. The LAI will take approximately 30 minutes to complete.

Short Message Service Survey (SMSS)—New: The Short Message Service Survey (SMSS) will be administered to a random sample of students, once in the first year of the grant, and again in the third year. The four-question text message survey will assess student exposure to and participation in suicide prevention activities on campus, and will collect information on suicidal ideation. The target population is students enrolled in each Campus at years 1 and 3 of the grant funding. Each year, the list of mobile phone numbers for all students will be obtained from each campus. A random sample of mobile phone numbers will be selected. The target number of respondents will be 100 per campus. It is expected that 1,000 mobile phone numbers will be required to achieve 100 responses. The list of mobile phone numbers from year 3 will be compared to that of year 1 to identify a stratum of mobile phone numbers present both years and to determine its relative size. Respondents in year 1 will be contacted again in year 3 if their mobile phone number is still present in the year 3 list. Oversampling mobile phone numbers present in both years will result in a more precise estimate of change. On average, 5,200 students per year will participate in the SMSS, which takes approximately 5 minutes to complete.

Student Awareness Intercept Survey (SAIS)—New

Respondents for the SAIS will represent a sample of the student population at up to four selected campuses. Campuses implementing targeted suicide prevention campaigns will be identified and selected by reviewing grant applications and through technical assistance activities. A sampling plan to obtain 400 student respondents at up to four participating campuses will be developed by the cross-site evaluation team in conjunction with the campus project team using geographical and temporal sampling frames of student activity. Working with the campus grantee, the evaluation team will recruit respondents utilizing a systematic process that randomly selects campus locations and times. For the follow-up administration, the same sample size will be targeted. However, that sample will result from a combination of follow-up interviews with students from the initial sample, in combination with students newly recruited through an intercept procedure similar to the procedure. The SAIS will collect information about: exposure to suicide prevention outreach and awareness initiatives with targeted student populations; awareness of appropriate crisis interventions, supports, services, and resources for mental health seeking; knowledge of myths and facts related to suicide and suicide prevention; and attitudes toward mental health seeking, access, and utilization of mental health services on campus. A follow-up version of the survey will be administered 3 months after baseline. On average, 1,600 students per year will participate in the SAIS, which takes approximately 60 minutes to complete.

MIS Data Abstraction—Revised: For the cross-site evaluation of the Campus programs, existing program data related to student retention rates, student use of mental health services, and student use of emergency services will be requested from Campuses once a year. The form has been modified to allow grantees to capture data on the number of attempted or completed suicides among students who live on and off campus. It is estimated that abstracting this information will take 20 minutes.

Internet-based technology will continue to be used for collecting data via Web-based surveys, and for data entry and management. The average annual respondent burden is estimated below.

Table 1—Estimates of Annualized Hour Burden
Type of respondent | Instrument | Number of respondents | Responses per respondent | Total number of responses | Burden per response (hours) | Annual burden (hours) | Hourly wage rate ($) | Total cost ($)
State/Tribal Cross-Site Evaluation Instruments
Project Evaluator | Prevention Strategies Inventory—State Tribal (PSI-ST) | 61 | 4 | 244 | 0.75 | 183 | 37.82 | 6,922
Provider (Trainees) | Training Utilization and Preservation Survey (TUP-S) | 2,000 | 1 | 2,000 | 0.16 | 320 | 21.35 | 6,832
Adolescents (Trainees) | Training Utilization and Preservation Survey (TUP-S) | 300 | 1 | 300 | 0.16 | 48 | 7.25 | 348
Provider (Trainees) | Training Utilization and Preservation Survey (TUP-S): 6-Month Follow-up | 467 | 1 | 1,467 | 0.16 | 75 | 21.35 | 1,602
Provider (Stakeholder) | Referral Network Survey (RNS) | 1,426 | 1 | 1,426 | 0.67 | 956 | 21.35 | 20,411
Project Evaluator | Coalition Profile (CP) | 33 | 1 | 33 | 0.33 | 11 | 37.82 | 417
Provider (Stakeholder) | Coalition Survey (CS) | 426 | 1 | 426 | 0.67 | 286 | 21.35 | 6,107
Project Evaluator | Early Identification, Referral and Follow-up Analysis (EIRF) | 61 | 4 | 244 | 5 | 1,220 | 37.82 | 46,141
Project Evaluator | Early Identification, Referral and Follow-up Screening Form (EIRF-S) | 27 | 4 | 108 | 1 | 108 | 37.82 | 4,085
Project Evaluator | Training Activity Summary Page (TASP-ST) | 61 | 4 | 244 | .33 | 81 | 37.82 | 3,064

Table 2—Annualized Summary Table
Respondents | Number of respondents | Responses/ respondent | Total responses | Total annualized hour burden
State/Tribal Cross-Site Evaluation Instruments
Project Evaluators | 243 | 17 | 873 | 1,603
Adolescents (Trainees) | 300 | 1 | 300 | 48
Provider (Trainees) | 2,467 | 2 | 3,467 | 395
Provider (Stakeholder) | 1,852 | 2 | 1,852 | 1,242
Campus Cross-Site Evaluation Instruments
Project Evaluators | 180 | 9 | 720 | 280
Students | 7,202 | 5 | 8,802 | 3,709
Provider Trainees | 37,920 | 1 | 37,920 | 6,447
Total
Total | 50,164 |  | 53,934 | 13,724

The estimate reflects the average annual number of respondents, the average annual number of responses, the time it will take for each response, and the average annual burden. While the different cohorts of grantees finish their grants at different times, it is assumed that new cohorts will replace previous cohorts. Therefore, the number of grantees in each year is assumed to be constant.

Written comments and recommendations concerning the proposed information collection should be sent by September 16, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-19985 Filed 8-15-13; 8:45 am]

BILLING CODE 4162-20-P